COMMITTEE FOR PURCHASE FROM PEOPLE WHO ARE BLIND OR SEVERELY DISABLED

Clarification of Scope of Procurement List Additions; 2007 Commodities Procurement List

AGENCY: Committee for Purchase From People Who Are Blind or Severely Disabled.

ACTION: Clarification of scope of the procurement preference and sourcing requirements for commodities and other products on the Procurement List; Publication of commodities and related products with governmentwide procurement preference (A List) as of January 1, 2007.

SUMMARY: The Committee for Purchase From People Who Are Blind or Severely Disabled (the Committee) is clarifying the scope of the procurement preference and sourcing requirements for commodities and other products on the Procurement List and publishing those which have been identified as satisfying Governmentwide requirements and thus subject to Governmentwide procurement preference for 2007. The full list of products with Governmentwide procurement preference is posted on www.jwod.gov. Changes to the list as published in the Federal Register on April 28, 2006 (71 FR 25136-25143) are identified in this notice.

DATES: The effective date for the 2007 A List is January 1, 2007.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail Alist2007@jwod.gov.

SUPPLEMENTARY INFORMATION: The decentralized nature of today's Federal acquisition environment requires the Committee to more specifically consider and communicate the applicability of each Procurement List addition, depending on the type of product and scope of the associated requiring/contracting activities. There are effectively three categories of products furnished under the auspices of the Javits-Wagner-O'Day (JWOD) Program, each with a different level of procurement source preference.

The first category (the A List) contains commodity-type products that are commonly used in office and light industrial settings. These products, when furnished by the JWOD Program, are widely available through multiple Government and commercial distribution channels, and are delivered to customers in timeframes consistent with industry best practices. For most office supplies, this means on a next-day or two-day basis. For oversize office products (e.g., chair mats), or janitorial/sanitary products, delivery times may be three to five days after receipt of order.

“A List” products must be purchased by Federal employees whenever they are available within required timeframes and quantities. JWOD-authorized commercial distributors must stock the items, obtain them from approved wholesalers or, to the extent permitted, coordinate nonprofit agency shipments, to make A List items available for quick delivery. Any “essentially the same” commercial equivalents to these products, as determined by the Committee, are identified to the Government and commercial distribution channels, and are excluded from contract sales to Federal employees in accordance with the Committee's regulations at 41 CFR 51-5.3(a). If a Federal customer orders an equivalent item, JWOD-authorized distributors are required to substitute and deliver the corresponding A List product instead. This effectively gives JWOD purchasing preference to each of the A List products across all entities of the Government, comparable to the Total Government Requirement scope previously extended to certain general Procurement List additions. A complete and updated copy of the A List will be maintained on the Committee's Web site at www.jwod.gov/distributors.

Examples of A List products include writing instruments, paper pads, desktop accessories, and general purpose cleaner in retail-sized bottles. The A List, previously updated annually in conjunction with print catalog cycles, will be updated quarterly by the Committee staff beginning April 1, 2007. Note: As with any proposed addition, new products must first go through a notice and comment rulemaking process and receive the Committee's approval to be added to the Procurement List before being classified as or placed on the A List.

The second category (the B List) contains products that are not used in volume in most offices, but have broad applicability across multiple Federal agencies, and the demand for these items is aggregated by the General Services Administration (GSA). As such, GSA is the JWOD Program's responsible contracting activity for these items on behalf of the rest of the Federal Government, just as GSA fulfills this role for the A List items. However, given the B List items' less-than-universal demand, particularly in terms of office use, the B List items are not required to be available through all commercial distribution channels. The B List items are available through the Federal Supply System, as managed by GSA, and will be carried by authorized commercial distributors who carry comparable commercial product families. The JWOD purchasing preference extends to these items and applies to all entities of the Government when such items meet customers' needs and are available in the timeframe and quantities necessary.

Examples of B List items include inkjet large format paper and many cleaning supplies such as mops, chemical cleaning solutions and floor polishing pads. However, whether the commercial equivalents of such items will be excluded from contract sales to Federal employees will be decided by the Committee on a case-by-case analysis based on distribution channel and availability. This effectively gives JWOD purchasing preference to each of the B List products for the Broad Government Requirement.

The third category (the C List) contains specialized or niche products (i.e., adapted to a specific function or demand) that are most often designed and manufactured to meet the needs of a single Federal agency, or a group of customers with a unique requirement. These products, when furnished under the JWOD Program, are sponsored by and have procurement preference for the specific Federal agency or agencies that defined the requirement. The JWOD procurement preference does not apply to Federal agencies that are not identified on the Procurement List documentation for such items. Generally, C List items are only made available to Federal customers through the distribution channels authorized by the requiring office. If Federal agencies whose requirements are not specified on the Procurement List would like to purchase C List items, they must refer their request to the sponsoring contracting activity. Alternatively, Federal agencies may ask the Committee to change the Procurement List in order to add their agency as an additional contracting activity.

Examples of C List products include plastic mail trays added to the Procurement List for the specific requirements of the U.S. Postal Service, and tree marking paint sold by GSA for the exclusive use of the U.S. Forest Service. C List items may be labeled and marketed in a manner that associates them with the JWOD Program, but does not imply purchasing preference for either the Total Government Requirement (A List) or the Broad Government Requirement (B List).

In the future, when proposing to add a product to its Procurement List, the Committee's notices published in the Federal Register will identify the category group (A List, B List or C List) to which the product has been assigned, and thus identify the intended scope of the JWOD procurement preference.

Clerical corrections are hereby made to the following products and/or producing nonprofit agencies proposed for the 2007 A List as published in the Federal Register Notice of April 28, 2006 (71 FR 25136-25143):

Nonprofit Agency: Susquehanna Association for the Blind and Visually Impaired, Lancaster, PA

Incorrect Noun Name: SKILCRAFT SAVVY Unreal Stop Remover

Correct Noun Name: SKILCRAFT SAVVY Unreal Spot Remover

NSN: 7930-01-517-6194

Nonprofit Agency: Louisiana Association for the Blind, Shreveport, LA

The following products are shared with Blind Industries & Services of Maryland, Baltimore, MD; but were only listed under BISM. The list should reflect Louisiana Association as an authorized producer.

Noun Name: Pad, Writing Paper

NSN: 7530-00-239-8479

NSN: 7530-01-372-3109

NSN: 7530-00-285-3090

NSN: 7530-01-372-3108

NSN: 7530-01-516-7573

NSN: 7530-01-516-7574

NSN: 7530-01-516-7578

NSN: 7530-01-516-7581

Nonprofit Agency: L.C. Industries for the Blind, Inc., Durham, NC

The following products are not assigned to LCI and should not be listed for this nonprofit agency. However, the NSNs remain on the A List for Outlook, Nebraska.

Noun Name: Paper, Toilet Tissue

NSN: 8540-01-380-0690

NSN: 8540-00-530-3770

The following products proposed for the 2007 A List were not approved for the January 1, 2007 effective date and thus do not have a Total Government Requirement scope at this time. These items may be considered by the Committee for the A List in the future.

The following items will be B List items:

NSN: 7045-01-365-2069

Disk, Flexible

NSN: 7045-01-442-1631

Disk, Flexible

NSN: 7045-01-470-3590

Greendisk

NSN: 7530-01-501-2688

Pad, Message, “While You Were Out”

NSN: 7530-00-NIB-0549

Folder, Classification

NSN: 7530-00-NIB-0551

Folder, Classification

NSN: 7520-00-NIB-1461

Pen, Gel Ink, Aristocrat (Black Ink)

NSN: 7530-00-NIB-0673

Folder, Classification, Pressboard—Legal Size—1 Divider/4 Part—Red

NSN: 7530-00-NIB-0679

Folder, Classification, Pressboard—Letter Size—2 Divider/6 Part—Gray/Green

NSN: 7510-00-NIB-0633

Skilcraft Toner Cartridge

NSN: 7510-00-NIB-0641

Skilcraft Toner Cartridge

NSN: 7510-00-NIB-0642

Skilcraft Toner Cartridge

NSN: 7510-00-NIB-0644

Skilcraft Toner Cartridge

NSN: 7530-00-NIB-0660

CD/DVD Label Kit

NSN: 7530-00-NIB-0688

CD/DVD Refills

NSN: 7530-01-463-3908

Envelope, Inter-Departmental

NSN: 7530-01-463-3910

Envelope, Inter-Departmental

NSN: 8110-01-443-8476

Tube, Mailing and Filing

NSN: 8115-01-455-4036

Box, Storage, File

NSN: 8115-01-455-4038

Box, Storage, File

NSN: 8460-01-433-8398

Briefcase, Black

NSN: 7510-01-431-6236

Binder, Loose-leaf

NSN: 7510-01-431-6244

Binder, Loose-leaf

NSN: 7510-01-431-6521

Inking Pad, Rubber Stamp

NSN: 7510-01-435-9775

Inking Pad

NSN: 7510-01-435-9776

Inking Pad

NSN: 7510-01-467-6738

Clip, Paper

NSN: 7520-01-431-6240

Perforator, Paper, Desk, 3-Hole, Heavy-Duty, Black

NSN: 7520-01-431-6251

Perforator, Paper, Desk, 3-Hole, Heavy-Duty, Black

NSN: 7520-01-457-0719

File, Horizontal Desk

NSN: 7520-01-457-0721

File, Horizontal Desk

NSN: 7520-01-457-0723

File, Horizontal Desk

NSN: 7520-01-457-0724

File, Horizontal Desk

NSN: 7520-01-457-0725

File, Horizontal Desk

NSN: 7520-01-457-0726

File, Horizontal Desk

NSN: 6545-01-433-8399

Kit, First Aid

The following item will remain as a proposed addition:

8455-00-NIB-0012

Retractable ID Badge Holder

Comments

Comments on this clarification of scope as published in the Federal Register on April 28, 2006 (71 FR 25136-25143) were received from 14 persons or organizations, 11 of which are nonprofit agencies participating in the JWOD Program. The nonprofit agencies comments consistently stated their general support for the timely addition of products to the Procurement List maintained by the Committee, characterizing it as critical to their success in generating and maintaining employment for people who are blind. Several also recommended the Committee's approval of specific products manufactured by their agencies that are included on the A List proposed in the Federal Register of April 28, 2006 (71 FR 25136-25143).

Combined comments were received from the Central Nonprofit Agencies designated to work with JWOD-participating nonprofit agencies. These comments included de minimis clerical changes to a few of the published A List products or associated nonprofit agencies, and requests that several additional items be added to the 2007 A List which were not included in the initial publication in the Federal Register. The current notice includes the clerical changes recommended. However, none of the newly suggested additional products or NSNs were added to the January 1, 2007 A List because the public was not provided an opportunity to comment. Instead, these items may be considered for future A List designation.

Two commenters from the above groups recommended that in the future, the Committee should only subject brand new items being proposed for Procurement List addition to the public notification process through the Federal Register, as the existing items have already been determined suitable by the Committee and are on the Procurement List via previous final rules. The Committee believes it is in the best interest of the JWOD Program and the public to give the maximum practicable visibility to the complete A List, which will have a total Government purchasing preference, and intends to continue publishing the A List in the Federal Register in its entirety, at least annually, for the foreseeable future.

Several comments received related to the B List as described in the initial publication. The purpose of the notice was to clarify the A List for the JWOD Program; however, distinction from the B List was a necessary part of the A List definition. The Committee has adopted some recommendations to better distinguish the B List from the A List, and in making such distinctions, the Committee has described a “C List” of products, as well. The current notice includes a parenthetical definition of the term “niche,” as recommended. The Committee has clarified that B List items, and now C List items, may be labeled and marketed in a manner that associates them with the JWOD Program, but does not imply purchasing preference for the total Government requirement. The C List incorporates the R List for restricted items that was described in the earlier notice.

One commenter recommended that the Committee provide more descriptive information for the B List items, including size, color, or unit of issue, to better enable resellers or manufacturers to determine whether the addition of items to the B List would have a severe adverse impact on their business. Another commenter recommended that the Committee abolish the B List and allow those products to be sold to the Federal Government by small businesses. As noted above, the purpose of the proposed policy is to clarify the A List. While the Committee is not considering substantive changes to the B List at this time, it may further clarify the B List in the future and will consider any recommendations (past or future) for the improvement of the B List.

One commenter from the reseller community requested the Committee's review and suspension of nine NSNs from the 2007 A List, which it states were still under contract when added to the Procurement List in 2005. The commenter claimed that these nine items were subsequently improperly purchased by GSA. The Committee investigated this concern and received documentation from GSA showing that each of the products' commercial contracts had expired before the Procurement List effective date and placement of initial orders under the auspices of the JWOD Program. This commenter also addressed the Committee's policy regarding commercial products that are “essentially the same” as JWOD preferred products. The Committee notes that the “essentially the same” policy is on its 2007 Regulatory Agenda, and comments will be solicited regarding that rule in the Federal Register at that time.

Comments were received from an industry association representing manufacturers and resellers of office supplies. In addition to addressing the B List as discussed above, this commenter requested that the Committee make public its impact analysis conducted on the current contractors for products that are proposed for addition to the Procurement List. The Committee does not believe such disclosure would be appropriate. Consistent with the Freedom of Information Act (FOIA), Exemption 4, 5 U.S.C. § 552(b)(4), the sales data obtained by the Committee and calculations based on such data are privileged, confidential commercial/financial information which is exempt from disclosure. Not only is this information submitted to the Committee in confidence, but its release would cause substantial harm to those organizations' respective competitive positions by affording their competitors information which could be used to the organizations' commercial disadvantage.

This commenter recommended that the Committee consider the impact of its actions on the small business community and that it specifically consider impact on manufacturers as well as contract resellers. The Committee has and will continue to consider the impact of every Procurement List addition action on current contracts, as required by its regulatory suitability criteria. Based on substantial research, the Committee finds that the Federal Government spends approximately 5 percent of the amount spent for similar office products commercially. For cleaning products, this percentage drops to 2.4% of the commercial expenditure. Therefore, the maximum total market impact would be 5% or less on any given item, assuming a distributor or manufacturer had all of the Federal business and that the JWOD product subsequently captured all of that business. It is also noted that the Committee deletes products from the Procurement List as well as adding them. Further, authorized JWOD distributors can switch from offering the existing commercial products to selling the JWOD products, thereby keeping their revenue stream steady. The Committee's impact process has historically focused on the firm that has privity of contract with the Federal Government, rather than that firm's suppliers, who can be and are often changed at any time for a variety of business considerations.

Patrick Rowe,
Deputy Executive Director.

[FR Doc. E6-20328 Filed 11-30-06; 8:45 am]

BILLING CODE 6353-01-P